DEPARTMENT OF HEALTH AND HUMAN SERVICES

Health Resources and Services Administration

Meeting of the Advisory Committee on Organ Transplantation

AGENCY: Health Resources and Services Administration, HHS.

ACTION: Notice.

SUMMARY: Pursuant to Public Law 92-463, the Federal Advisory Committee Act, as amended (5 U.S.C. Appendix 2) notice is hereby given of the first meeting of the Advisory Committee on Organ Transplantation (ACOT), Department of Health and Human Services (HHS). The meeting will be held from approximately 8:15 a.m. to 6:30 p.m. on May 1, 2001, and from 8:00 a.m. to 5:15 p.m. on May 2, 2001, at the Sheraton Suites, Old Town Alexandria, 801 North Saint Asaph Street, Alexandria, Virginia 22314. The meeting will be open to the public; however, seating is limited and pre-registration is encouraged (see below).

SUPPLEMENTARY INFORMATION: The ACOT will review the organ allocation policies submitted by the Organ Procurement and Transplantation Network (OPTN) to HHS for approval. There will be a limited period of time for public comment before the Committee considers each policy. The public may review the OPTN policies on the OPTN website www.unos.org. While public comments are welcome for possible presentation, please note that the Committee will be working with a full agenda and a limited amount of time. Therefore, to facilitate this process, we recommend that individuals interested in providing public comments submit those comments in writing by April 20, 2001, to the Executive Director of the Committee (address below). The Department reserves the right to select comments from among those submitted for oral presentation within the time available, although it will include all comments in the record of the ACOT meeting.

Under the authority of 42 U.S.C. 217a, section 222 of the Public Health Service Act, as amended, and 42 CFR 121.12 (64 FR 56661), the ACOT was established to assist the Secretary in ensuring that the system of organ transplantation is grounded in the best available medical science and is as effective and equitable as possible, and thereby, enhance public confidence in the integrity and effectiveness of the transplantation system. The ACOT will review potentially enforceable OPTN policies and such other matters as the Secretary determines. The ACOT is composed of 20 voting, non-governmental individuals with diverse backgrounds in areas such as health care public policy, transplantation medicine and surgery, non-physician transplant professions, biostatistics, immunology, bioethics, law, transplant recipients, and a donor family representative.

The draft meeting agenda and a registration form are available on the Division of Transplantation's Web site: http://www.hrsa.gov/osp/dot.htm. The completed registration form should be submitted by facsimile to Betah Associates, Inc., the logistic support contractor for the meeting, at FAX number (301) 657-4258. Individuals without access to the Internet who wish to register may call Betah Associates, Inc., at (301) 657-4254, extension 228. Individuals who plan to attend the meeting and need special assistance, such as sign language interpretation or other reasonable accommodations, should notify the ACOT Executive Director, Ms. Lynn Rothberg Wegman, M.P.A., in advance of the meeting. Ms. Wegman may be reached by telephone at (301) 443-7577, by e-mail at LWegman@hrsa.gov, or in writing at the address of the Division of Transplantation provided below. Management and support services for ACOT functions are provided by the Division of Transplantation, Office of Special Programs, HRSA, Room 7C-22, Parklawn Building, 5600 Fishers Lane, Rockville, MD 20857.

Dated: April 6, 2001.
Elizabeth M. Duke,
Acting Administrator, Health Resources and Services Administration.

[FR Doc. 01-9042 Filed 4-11-01; 8:45 am]

BILLING CODE 4160-15-P